Title 3—

The President

Proclamation 8741 of October 25, 2011

To Take Certain Actions Under the African Growth and Opportunity Act

By the President of the United States of America

A Proclamation

1. Section 506A(a)(1) of the Trade Act of 1974, as amended (the “1974 Act”) (19 U.S.C. 2466a(a)(1)), as added by section 111(a) of the African Growth and Opportunity Act (title I of Public Law 106-200) (AGOA), authorizes the President to designate a country listed in section 107 of the AGOA (19 U.S.C. 3706) as a “beneficiary sub-Saharan African country” if the President determines that the country meets the eligibility requirements set forth in section 104 of the AGOA (19 U.S.C. 3703), as well as the eligibility criteria set forth in section 502 of the 1974 Act (19 U.S.C. 2462).

2. Section 104 of the AGOA authorizes the President to designate a country listed in section 107 of the AGOA as an “eligible sub-Saharan African country” if the President determines that the country meets certain eligibility requirements.

3. Section 112(c) of the AGOA, as added in section 6002 of the Africa Investment Incentive Act of 2006 (Division D, title VI of Public Law 109-432) (19 U.S.C. 3721(c)), provides special rules for certain apparel articles imported from “lesser developed beneficiary sub-Saharan African countries.”

4. Pursuant to section 104 of the AGOA and section 506A(a)(1) of the 1974 Act, I have determined that the Republic of Côte d’Ivoire (Côte d’Ivoire), the Republic of Guinea (Guinea), and the Republic of Niger (Niger) meet the eligibility requirements set forth or referenced therein, and I have decided to designate Côte d’Ivoire, Guinea, and Niger as eligible sub-Saharan African countries and as beneficiary sub-Saharan African countries.

5. Côte d’Ivoire, Guinea, and Niger each satisfy the criterion for treatment as a “lesser developed beneficiary sub-Saharan African country” under section 112(c) of the AGOA.

6. Section 604 of the 1974 Act (19 U.S.C. 2483), as amended, authorizes the President to embody in the Harmonized Tariff Schedule of the United States (HTS) the substance of relevant provisions of that Act, or other acts affecting import treatment, and actions taken thereunder.

NOW, THEREFORE, I, BARACK OBAMA, President of the United States of America, by virtue of the authority vested in me by the Constitution and the laws of the United States of America, including but not limited to section 104 of the AGOA (19 U.S.C. 3703), and title V and section 604 of the 1974 Act (19 U.S.C. 2461-67, 2483), do hereby proclaim that:

(1) Côte d’Ivoire, Guinea, and Niger are designated as eligible sub-Saharan African countries and as beneficiary sub-Saharan African countries.

(2) In order to reflect this designation in the HTS, general note 16(a) to the HTS is modified by inserting in alphabetical sequence in the list of beneficiary sub-Saharan African countries “Republic of Côte d’Ivoire”, “Republic of Guinea”, and “Republic of Niger”.

(3) For purposes of section 112(c) of the AGOA, Côte d’Ivoire, Guinea, and Niger are lesser developed beneficiary sub-Saharan African countries.

IN WITNESS WHEREOF, I have hereunto set my hand this twenty-fifth day of October, in the year of our Lord two thousand eleven, and of the Independence of the United States of America the two hundred and thirty-sixth.

[FR Doc. 2011-28211

Filed 10-27-11; 11:15 am]

Billing code 3295-F2-P